OFFICE OF MANAGEMENT AND BUDGET

Statistical Policy Directive No. 2: Standards and Guidelines for Statistical Surveys; Addendum: Standards and Guidelines for Cognitive Interviews

AGENCY: Executive Office of the President, Office of Management and Budget.

ACTION: Notice of final decision.

SUMMARY: Under the Budget and Accounting Procedures Act of 1950 (31 U.S.C. 1104 (d)) and the Paperwork Reduction Act of 1995 (44 U.S.C. 3504 (e)), the Office of Management and Budget (OMB) is issuing Statistical Policy Directive No. 2 Addendum: Standards and Guidelines for Statistical Surveys. This Addendum provides Standards and Guidelines for Conducting Cognitive Interviews.

The Addendum may be accessed at www.WhiteHouse.gov/sites/default/files/omb/inforeg/directive2/final_addendum_to_stat_policy_dir_2.pdf. Additional discussion of the Addendum may be found in the SUPPLEMENTARY INFORMATION section below.

DATES: Effective Date: This Addendum is effective immediately.

ADDRESSES: Please send any questions about this Directive to: Katherine K. Wallman, Chief Statistician, Office of Management and Budget, 10201 New Executive Office Building, Washington, DC 20503, telephone number: (202) 395-3093, FAX number: (202) 395-7245. You may also send questions via email to DirectiveNo2@omb.eop.gov. Because of delays in the receipt of regular mail related to security screening, use of electronic communications is encouraged.

Electronic Availability: This document is available on the Internet on the OMB Web site at www.WhiteHouse.gov/sites/default/files/omb/inforeg/directive2/FRN_stat_policy_dir_2_addendum.pdf.

FOR FURTHER INFORMATION CONTACT: Jennifer Park, 10201 New Executive Office Building, Washington, DC 20503, email address: jpark@omb.eop.gov with subject Directive No. 2 Addendum: Standards and Guidelines for Cognitive Interviews, telephone number: (202) 395-9046, FAX number: (202) 395-7245.

SUPPLEMENTARY INFORMATION: The Nation relies on the flow of credible statistics to support the decisions of governments, businesses, individuals, households, and other organizations. Federal surveys collect much of the information available about the United States' economy, population, natural resources, environment, and public and private institutions. It is essential that these surveys collect information in a clear, straight-forward manner so as to maximize the accuracy of data while minimizing respondent burden.

Scope: The Addendum applies to all Federal agencies subject to the Paperwork Reduction Act of 1995. Agencies not subject to the PRA also benefit from this Addendum, and are therefore encouraged to apply this guidance as well.

Background: Consistent with the Information Quality Act (Pub. L. 106-554, Division C, title V, Sec. 515, Dec. 21, 2000; 114 Stat. 2763A-153 to 2763A-154) and in accordance with Statistical Policy Directive No. 1: Fundamental Responsibilities of Federal Statistical Agencies and Recognized Statistical Units (79 FR 71610, Dec. 2, 2014), it is the responsibility of Federal agencies engaging in statistical work to continuously review statistical methodologies and implement improvements as they are identified so as to better ensure the relevance, accuracy, and objectivity of the statistical products our Nation uses to monitor and assess performance, progress, and needs. Further, these responsibilities must be achieved in a manner that protects the confidentiality of information acquired solely for statistical purposes.

In its role as coordinator of the Federal statistical system under the Paperwork Reduction Act, OMB, among other responsibilities, is required to ensure the efficiency and effectiveness of the system as well as the relevance, accuracy, objectivity, and confidentiality of information collected for statistical purposes. OMB is also charged with developing and overseeing the implementation of Government-wide principles, policies, standards, and guidelines concerning the development, presentation, and dissemination of statistical information.

Statistical Policy Directive No. 2: Standards and Guidelines for Statistical Surveys was issued in 2006 to ensure implementation of improved survey methods across Federal agencies engaged in statistical activities. It remains a robust and comprehensive source of guidance. Nonetheless, periodic review, updates, and addenda are required to ensure that this Directive remains most useful to Federal agencies.

Cognitive interviewing is a key method used to pretest survey questions and questionnaires. This method investigates whether respondents understand survey questions according to their intended design and whether respondents can provide accurate answers based on that intent. Cognitive interviews determine respondent interpretations and detail the phenomena considered by respondents in forming their answer. Findings from cognitive interviews can indicate whether a survey question captures the intended construct; cognitive interview findings can also identify difficulties that respondents experience when formulating responses. Ultimately, rigorous cognitive interviews support the efficient production of useful statistics since the findings from cognitive interviews can be used to help minimize costs and burden while ensuring the accuracy of the information collected.

Although cognitive interviews are broadly used across a variety of Federal agencies engaged in statistical activities, to date no specific Federal guidance has established the manner in which this particular method should be conducted. As such, the term “cognitive interview,” when applied to Federal statistical surveys could refer to any of an array of related research techniques that differ in their appropriate use for statistical surveys. Accordingly, in 2014, OMB requested members of the Federal Interagency Council on Statistical Policy (ICSP) to nominate representatives for a new subcommittee formed under the aegis of the Federal Committee on Statistical Methodology (FCSM). The Question Evaluation Methodology Subcommittee was asked to identify best practices for conducting cognitive interviews so as to improve the resulting data quality. Subcommittee members reviewed relevant scientific literature, the Paperwork Reduction Act, the Information Quality Act, Government-wide Information Quality Guidelines (Information Quality Guidelines) (67 FR 8453, Jan. 3, 2002), Statistical Policy Directive No. 1 and Directive No. 2, and other information quality standards currently used by Federal statistical agencies. Through this careful process, the subcommittee reached a consensus in identifying seven standards for cognitive interviews. The subcommittee provided draft standards and guidelines for review by the FCSM and the ICSP in 2015. The subcommittee addressed the comments it received at each stage and provided its final recommendations to the FCSM in 2015.

Accordingly, OMB requested comments on the recommendation that it received from the Federal Committee on Statistical Methodology (FCSM) Subcommittee on Question Evaluation Methodology to publish an addendum to OMB Statistical Policy Directive No. 2: Standards and Guidelines for Statistical Surveys. The Addendum, Standards and Guidelines for Cognitive Interviews, is intended to ensure that the results of statistical surveys sponsored by the Federal Government are as reliable and useful as possible while minimizing respondent burden. Specifically, the Addendum establishes rigorous standards for the use of cognitive interviews in Federal information collections. These standards allow data collectors and users alike to better evaluate the quality of survey questions and the resulting survey statistics.

Disposition of Comments Received: On May 10, 2016, OMB published in the Federal Register (81 FR 29107, May 10, 2016) a notice seeking comments on a draft of this Addendum. No comments were received. Accordingly, OMB hereby adopts and issues the final Directive No. 2 Addendum: Standards and Guidelines for Cognitive Interviews. The Addendum can be accessed at www.WhiteHouse.gov/sites/default/files/omb/inforeg/directive2/final_addendum_to_stat_policy_dir_2.pdf.

Howard Shelanski,
Administrator. Office of Information and Regulatory Affairs.

[FR Doc. 2016-24607 Filed 10-11-16; 8:45 am]

BILLING CODE P